DEPARTMENT OF AGRICULTURE

Commodity Credit Corporation

Farm Service Agency

Information Collection Request; Assignment of Payment and Joint Payment Authorization

AGENCY: Commodity Credit Corporation and Farm Service Agency, USDA.

ACTION: Notice; request for comments.

SUMMARY: In accordance with the Paperwork Reduction Act of 1995, the Commodity Credit Corporation (CCC) and Farm Service Agency (FSA) are requesting comments from all interested individuals and organizations on an extension with a revision of a currently approved information collection. The information collection is associated with assignment of payment, joint payment authorization, and request for a paper check (new). Certain services for FSA and the National Resources Conservation Service (NRCS) are being merged to consolidate services. The information on the forms is used by FSA and NRCS employees in order to record the payment or contract being assigned, the amount of the assignment, the date of the assignment, and the name and address of the assignee and the assignor. This will enable FSA and NRCS employees to pay the proper party when payment becomes due. A new waiver request form to receive a paper check for program payments in lieu of electronic fund transfer is being added in the information collection request. In general, NRCS programs are exempt from the Paperwork Reduction Act.

DATES: We will consider comments that we receive by June 1, 2018.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail, hand delivery, or courier: Yanira Sanabria, Financial Specialist, USDA/FSA/FMD, STOP 0581, Patriot Plaza III, 355 E. Street SW, Washington, DC 20024-0581.

You may also send comments to the Desk Officer for Agriculture, Office of Information and Regulatory Affairs, Office of Management and Budget, Washington, DC 20503.

Copies of the information collection may be requested by contacting Yanira Sanabria at the above address.

FOR FURTHER INFORMATION CONTACT: For specific questions related to collection activities, Yanira Sanabria, (202) 772-6032. Persons with disabilities who require alternative mean for communication (Braille, large print, audio tape, etc.) should contact the USDA's TARGET Center at (202)720-2600 (Voice).

SUPPLEMENTARY INFORMATION:

Title: Assignment and Joint Payment Elections.

Forms: CCC-36, “Assignment of Payment;” CCC-37, “Joint Payment Authorization;” CCC-251, “Notice of Assignment;” CCC-252, “Instrument of Assignment;” and CCC-40, “Request for FSA and NRCS Payments of Federal Benefits by Check (Request for Waiver).”

OMB Control Number: 0560-0183.

Expiration Date of Approval: July 31, 2018.

Type of Request: Revision and extension of a currently approved information collection request.

Abstract: FSA and CCC are requesting an extension with a revision of the currently approved information collection, which as revised will include forms CCC-36, “Assignment of Payment;” CCC-37, “Joint Payment Authorization;” CCC-40, “Request for FSA and NRCS Payments of Federal Benefits by Check (Request for Waiver);” CCC-251, “Notice of Assignment;” and CCC-252, “Instrument of Assignment.”

Section 8(g) of the Soil Conservation and Domestic Allotment Act (16 U.S.C. 590h(g)) authorizes producers to assign FSA conservation program payments in accordance with regulations issued by the Secretary. The Assignment of Payment regulation in 7 CFR part 1404 requires that any such assignment be signed by both the assignor and the assignee. The Agricultural Act of 1949, as amended, extends that authority to CCC programs, including rice, feed grains, cotton, and wheat. There are no regulations governing joint payments, but this service is offered as a result of public requests for the type of payment option.

The Department of the Treasury (Treasury) amended its regulation to require recipients of Federal nontax payments to receive payment by electronic funds transfer (EFT), effective May 1, 2011. The Treasury regulation allows an automatic waiver for customers who were born before May 1, 1921. The Treasury regulation is focused on requiring payments to be received by EFT, therefore customers who want a payment by paper check need to submit a waiver request, even for the automatic waiver category. The Treasury regulation also provides 2 hardship waiver categories related to a mental impairment or living in a remote geographic location.

For FSA and NRCS payments, USDA collects the customer information and submits it to Treasury, including any account information for those customers requesting payment by paper check instead of EFT. To collect the waiver request information, FSA and NRCS will use the new CCC-40 form. FSA used the Treasury form FS Form 1201W (March 2014) (approved under OMB #1530-0019) as the model for CCC-40. The differences in the forms are that FSA and NRCS use a tax identification number instead of a social security number and the CCC-40 form will be submitted by FSA or NRCS customers to FSA or NRCS, respectively, instead of to Treasury. Once approved by FSA or NRCS, such request will be forwarded by FSA or NRCS to Treasury as part of the payment information.

The overall burden hours increased because FSA added a new form of CCC-40, “Request for FSA and NRCS Payments of Federal Benefits by Check (Request for Waiver)” (paper form), and FSA increased the number of respondents who are currently participating in the FSA, CCC, and NRCS programs.

For the following estimated total annual burden on respondents, the formula used to calculate the total burden hours is the estimated average time per response multiplied by the estimated total annual responses.

Estimate of Respondent Burden: Public reporting burden for collecting information under this notice is estimated to average 0.166 hour per response, including the time for reviewing instructions, searching existing data sources, gathering and maintaining the data needed, and completing and reviewing the collections of information.

Type of Respondents: Producers participating in FSA, CCC, and NRCS programs.

Estimated Number of Respondents: 126,542.

Estimated Average Number of Responses per Respondent: 1.

Estimated Total Annual Responses: 126,542.

Estimated Average Time per Response: 0.16663.

Estimated Total Annual Burden on Respondents: 21,083 hours.

We are requesting comments on all aspects of this information collection to help FSA.

(1) Evaluate whether the proposed collection of information is necessary for the proper performance of the functions of the agency, including whether the information will have practical utility;

(2) Evaluate the accuracy of the agency's estimate of burden of the collection of information including the validity of the methodology and assumptions used;

(3) Evaluate the quality, ability and clarity of the information technology; and

(4) Minimize the burden of the information collection on those who respond through the use of appropriate automated, electronic, mechanical, or other technological collection techniques or other forms of information technology.

All comments received in response to this notice, including names and addresses when provided, will be made a matter of public record. Comments will be summarized and included in the submission for Office of Management and Budget approval.

Steven J. Peterson,
Acting Administrator, Farm Service Agency, and Executive Vice President, Commodity Credit Corporation.

[FR Doc. 2018-06597 Filed 3-30-18; 8:45 am]

BILLING CODE 3410-05-P